DEPARTMENT OF ENERGY

Environmental Management Site-Specific Advisory Board Chairs Meeting

AGENCY: Department of Energy.

ACTION: Notice of open meeting.

SUMMARY: This notice announces a meeting of the Environmental Management Site-Specific Advisory Board (EMSSAB) Chairs Meeting. The Federal Advisory Committee Act (Pub. L. No. 92-463, 86 Stat. 770) requires that public notice of these meetings be announced in the Federal Register.

DATES: Wednesday, April 21, 2004, 8:15 a.m.-5:15 p.m. Thursday, April 22, 2004, 8:15 a.m.-12:15 p.m.

ADDRESSES: Department of Energy, 1000 Independence Avenue, SW., Room 1E-245, Forrestal Building, Washington, DC 20585.

FOR FURTHER INFORMATION CONTACT: Jay Vivari, Program Management Specialist (EM-30.1), Department of Energy, 1000 Independence Avenue, SW., Washington, DC 20585, (202) 586-5143.

SUPPLEMENTARY INFORMATION: Purpose of the Board: The purpose of the EM SSAB is to make recommendations to DOE and its regulators in the areas of environmental restoration, waste management, and related activities.

Tentative Agenda

Wednesday, April 21

8:15 a.m. Welcome; Introductions; Meeting Expectations (Waisley; Schoener)

8:45 a.m. Round Robin on Sites' Key Issues, e.g. Risk-Based End States; Structure of the CABs; Future of CABs at Closure Sites, etc. (Preparation for A/S Roberson Meeting)

9:45 a.m. Break

10 a.m. Discussion with Assistant Secretary for Environmental Management Jessie Roberson; includes two minutes for expression of concerns from each site

10:45 a.m. Board's Discussion following Roberson Dialogue

11:45 a.m. Public Comment Period

Noon Lunch

1 p.m. Presentation on Risk-Based End States (RBES): Status at Headquarters; Reports on RBES from each site; Discussion on Public Participation in RBES; Paths Forward

2:30 p.m. Break

2:45 p.m. Resume and complete discussion on RBES

3:15 p.m. Presentation on EM's FY ‘05 Budget Request to Congress, Including High Level Waste Funding Issues; Discussion

4:15 p.m. Discussion on Possible End-of-Meeting Work Product

4:45 p.m. Public Comment Period

5 p.m. Wrap Up and Conclusion to Day One

5:15 p.m. Adjourn

Thursday, April 22, 2004

8:15 a.m. Welcome; Day One Recap; Day Two Expectations

8:30 a.m. Presentation on Responsibility for Long Term Stewardship (LTS) at Closure Sites vs. Responsibility for LTS at Sites with On-Going Missions; Discussion

9:45 a.m. Break

10 a.m. Presentation on TRU Waste and WIPP by EM; Discussion

10:45 a.m. Presentation on EM Headquarters Reorganization; Discussion

11 a.m. Discussion of Possible SSAB Workshop Topics, Dates, Locations; Initial Planning for Next Meeting

11:45 a.m. Public Comment Period

Noon Meeting Evaluation

12:15 p.m. Adjourn

Public Participation: The meeting is open to the public. Written statements may be filed with the Board either before or after the meeting. Individuals who wish to make oral statements pertaining to agenda items should contact Jay Vivari at the address above or by telephone at (202) 586-5143. Requests must be received five days prior to the meeting and reasonable provision will be made to include the presentation in the agenda. The Designated Federal Officer is empowered to conduct the meeting in a fashion that will facilitate the orderly conduct of business. Each individual wishing to make public comment will be provided a maximum of five minutes to present their comments at the end of the meeting.

Minutes: Minutes of this meeting will be available for public review and copying at the Freedom of Information Public Reading Room, 1E-190, Forrestal Building, 1000 Independence Avenue, SW., Washington, DC 20585 between 9 a.m. and 4.p.m., Monday-Friday except Federal holidays. Minutes will also be available by calling Jay Vivari at (202) 586-5143.

Issued at Washington, DC, on March 10, 2004.
Rachel M. Samuel,
Deputy Advisory Committee Management Officer.

[FR Doc. 04-5883 Filed 3-15-04; 8:45 am]

BILLING CODE 6450-01-P